COMMISSION ON CIVIL RIGHTS

Sunshine Act Notice

AGENCY: United States Commission on Civil Rights.

ACTION: Notice of meeting.

Date and Time: Friday, September 21, 2007; 9:30 a.m.

Place: U.S. Commission on Civil Rights, 624 Ninth Street, NW., Rm. 540, Washington, DC 20425.

Meeting Agenda

I. Approval of Agenda.

II. Approval of Minutes of August 24 Meeting.

III. Program Planning.

• Record for Minority Children in State Foster Care and Adoption.

• Briefing Book on Minority Children in State Foster Care and Adoption.

IV. Briefing on Minorities in Foster Care and Adoption.

• Introductory Remarks by Chairman.

• Speakers’ Presentation.

• Questions by Commissioners and Staff Director.

V. Adjourn.

Contact Person for Further Information: Manuel Alba, Press and Communications, (202) 376-8582.

Dated: September 11, 2007.
David Blackwood,
General Counsel.

[FR Doc. 07-4578 Filed 9-11-07; 3:51 pm]

BILLING CODE 6335-01-P